DEPARTMENT OF TRANSPORTATION

Federal Aviation Administration

14 CFR Part 39

[Docket No. FAA-2005-23283; Directorate Identifier 2005-NM-185-AD; Amendment 39-14483; AD 2006-04-02]

RIN 2120-AA64

Airworthiness Directives; Empresa Brasileira de Aeronautica S.A. (EMBRAER) Model EMB-135 Airplanes; and Model EMB-145, -145ER, -145MR, -145LR, -145XR, -145MP, and -145EP Airplanes

AGENCY: Federal Aviation Administration (FAA), Department of Transportation (DOT).

ACTION: Final rule.

SUMMARY: The FAA is adopting a new airworthiness directive (AD) for all EMBRAER Model EMB-135 airplanes; and Model EMB-145, -145ER, -145MR, -145LR, -145XR, -145MP, and -145EP airplanes. This AD requires repetitive inspections of the pitot static heating relay K0057 for damage to the pin-type contacts, relay enclosure, and finishing material and corrective actions if necessary. This AD also requires doing a terminating modification, which ends the repetitive inspections. This AD results from a report of a burning drain hose and smoke caused by an overheated pitot static heating relay. We are issuing this AD to prevent over-heating of a certain pitot static heating relay, which could result in the burning of the windowsill drain hoses and consequent smoke or fire in the airplane cockpit.

DATES: This AD becomes effective March 31, 2006.

The Director of the Federal Register approved the incorporation by reference of certain publications listed in the AD as of March 31, 2006.

ADDRESSES: You may examine the AD docket on the Internet at http://dms.dot.gov or in person at the Docket Management Facility, U.S. Department of Transportation, 400 Seventh Street, SW., Nassif Building, room PL-401, Washington, DC.

Contact Empresa Brasileira de Aeronautica S.A. (EMBRAER), P.O. Box 343—CEP 12.225, Sao Jose dos Campos—SP, Brazil, for service information identified in this AD.

FOR FURTHER INFORMATION CONTACT: Dan Rodina, Aerospace Engineer, International Branch, ANM-116, Transport Airplane Directorate, FAA, 1601 Lind Avenue, SW., Renton, Washington 98055-4056; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all EMBRAER Model EMB-135 airplanes; and Model EMB-145, -145ER, -145MR, -145LR, -145XR, -145MP, and -145EP airplanes. That NPRM was published in the Federal Register on December 13, 2005 (70 FR 73668). That NPRM proposed to require repetitive inspections of the pitot static heating relay K0057 for damage to the pin-type contacts, relay enclosure, and finishing material and corrective actions if necessary. That NPRM also proposed to require doing a terminating modification, which ends the repetitive inspections.

Comments

We provided the public the opportunity to participate in the development of this AD. We received no comments on the NPRM or on the determination of the cost to the public.

Conclusion

We have carefully reviewed the available data and determined that air safety and the public interest require adopting the AD as proposed.

Costs of Compliance

The following table provides the estimated costs for U.S. operators to comply with this AD.

Estimated Costs
Action | Work hours | Average labor rate per hour | Parts | Cost per airplane | Number of U.S.-registered airplanes | Fleet cost
Inspection, per inspection cycle | 1 | $65 | None | $65 | 651 | $42,315, per inspection cycle.
Terminating modification | 2 | 65 | 270 | 400 | 651 | $260,400.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-04-02 Empresa Brasileira de Aeronautica S.A. (EMBRAER): Amendment 39-14483. Docket No. FAA-2005-23283; Directorate Identifier 2005-NM-185-AD.

Effective Date

(a) This AD becomes effective March 31, 2006.

Affected ADs

(b) None.

Applicability

(c) This AD applies to all EMBRAER Model EMB-135BJ, -135ER, -135KE, -135KL, and -135LR airplanes; and Model EMB-145, -145ER, -145MR, -145LR, -145XR, -145MP, and -145EP airplanes; certificated in any category.

Unsafe Condition

(d) This AD results from a report of a burning drain hose and smoke caused by an overheated pitot static heating relay. We are issuing this AD to prevent overheating of a certain pitot static heating relay, which could result in the burning of the windowsill drain hoses and consequent smoke or fire in the airplane cockpit.

Compliance

(e) You are responsible for having the actions required by this AD performed within the compliance times specified, unless the actions have already been done.

Service Bulletin References

(f) The term “service bulletin,” as used in this AD, means the Accomplishment Instructions of the service bulletins identified in Table 1 of this AD, as applicable:

Table 1.—Service Bulletin References
For Model— | For the actions specified in— | EMBRAER Service Bulletin—
EMB-135ER, -135KE, -135KL, and -135LR airplanes and Model EMB-145, -145ER, -145MR, -145LR, -145XR, -145MP, and -145EP airplanes | paragraph (g) of this AD paragraph (i) of this AD | 145-30-0042, dated April 18, 2005. 145-30-0041, dated April 20, 2005.
EMB-135BJ airplanes | paragraph (g) of this AD paragraph (i) of this AD | 145LEG-30-0012, dated April 18, 2005. 145LEG-30-0011, dated April 20, 2005.

Repetitive Inspections

(g) Within 600 flight hours or 180 days after the effective date of this AD, whichever is first: Do a general visual inspection of pitot static heating relay K0057 for damage to the pin-type contacts, relay enclosure, and finishing material, and do the corrective action as applicable, by accomplishing all of the applicable actions specified in the applicable service bulletin; except as provided by paragraph (h) of this AD. The corrective actions must be done before further flight. Repeat the inspection thereafter at intervals not to exceed 500 flight hours, until the terminating modification required by paragraph (i) of this AD is accomplished.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Service Bulletin Exceptions

(h) Although EMBRAER Service Bulletin 145-30-0042, dated April 18, 2005, and EMBRAER Service Bulletin 145LEG-30-0012, dated April 18, 2005, specify contacting the manufacturer if damage to components for the relay support is found and also specify returning any relay that fails an inspection to the airplane manufacturer, this AD does not include those requirements.

Terminating Modification

(i) Within 6,000 flight hours or 30 months after the effective date of this AD, whichever is first: Do the applicable actions specified in paragraphs (i)(1), (i)(2), and (i)(3) of this AD. Accomplishing all the applicable actions specified in this paragraph terminates the inspections required by paragraph (g) of this AD.

(1) For all airplanes, replace the direct-vision windowsill drain hoses having part number (P/N) 123-15435-401 and -403 with new, improved hoses having P/N 145-13044-001 and P/N 145-13047-001, as applicable, and replace the tiedown straps with new tiedown straps, in accordance with Figure 1 of the service bulletin.

(2) For all airplanes, rework the drain hose having P/N 123-15435-405, in accordance with Figure 1 of the service bulletin.

(3) For Model EMB-135BJ airplanes, reroute the drain hoses of the left and right cockpit horizontal linings, in accordance with Figure 2 of the service bulletin.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) Brazilian airworthiness directive 2005-08-04, effective September 5, 2005, also addresses the subject of this AD.

Material Incorporated by Reference

(l) You must use the service documents identified in Table 2 of this AD to perform the actions that are required by this AD, unless the AD specifies otherwise. The Director of the Federal Register approved the incorporation by reference of these documents in accordance with 5 U.S.C. 552(a) and 1 CFR part 51. Contact Empresa Brasileira de Aeronautica S.A. (EMBRAER), P.O. Box 343—CEP 12.225, Sao Jose dos Campos—SP, Brazil, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 2.—Material Incorporated by Reference
Embraer Service Bulletin | Date
145-30-0041 | April 20, 2005.
145-30-0042 | April 18, 2005.
145LEG-30-0011 | April 20, 2005.
145LEG-30-0012 | April 18, 2005.

Issued in Renton, Washington, on February 3, 2006.
Kalene C. Yanamura,
Acting Manager, Transport Airplane Directorate, Aircraft Certification Service.

[FR Doc. 06-1409 Filed 2-23-06; 8:45 am]

BILLING CODE 4910-13-P